SECURITIES AND EXCHANGE COMMISSION

[File No. 500-1]

In the Matter of AISystems, Inc. (a/k/a Airline Intelligence Systems, Inc.), Baeta Corp., China Jianye Fuel, Inc., Cordex Pharma, Inc., Diamondhead Casino Corporation, Emerald Dairy, Inc., and Kentucky Energy, Inc.; Order of Suspension of Trading

June 18, 2014.

It appears to the Securities and Exchange Commission that there is a lack of current and accurate information concerning the securities of AISystems, Inc. (a/k/a Airline Intelligence Systems, Inc.) because it has not filed any periodic reports since the period ended March 31, 2012.

It appears to the Securities and Exchange Commission that there is a lack of current and accurate information concerning the securities of Baeta Corp. because it has not filed any periodic reports since the period ended September 30, 2011.

It appears to the Securities and Exchange Commission that there is a lack of current and accurate information concerning the securities of China Jianye Fuel, Inc. because it has not filed any periodic reports since the period ended March 31, 2011.

It appears to the Securities and Exchange Commission that there is a lack of current and accurate information concerning the securities of Cordex Pharma, Inc. because it has not filed any periodic reports since the period ended September 30, 2009.

It appears to the Securities and Exchange Commission that there is a lack of current and accurate information concerning the securities of Diamondhead Casino Corporation because it has not filed any periodic reports since the period ended June 30, 2011.

It appears to the Securities and Exchange Commission that there is a lack of current and accurate information concerning the securities of Emerald Dairy, Inc. because it has not filed any periodic reports since the period ended June 30, 2011.

It appears to the Securities and Exchange Commission that there is a lack of current and accurate information concerning the securities of Kentucky Energy, Inc. because it has not filed any periodic reports since the period ended March 31, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 18, 2014, through 11:59 p.m. EDT on July 1, 2014.

By the Commission.
Jill M. Peterson,
Assistant Secretary.

[FR Doc. 2014-14558 Filed 6-18-14; 4:15 pm]

BILLING CODE 8011-01-P